DEPARTMENT OF ENERGY

Federal Energy Regulatory Commission

Combined Notice of Filings

Take notice that the Commission has received the following Natural Gas Pipeline Rate and Refund Report filings:

Filings Instituting Proceedings

Docket Numbers: RP15-441-000.

Applicants: Iroquois Gas Transmission System, L.P.

Description: Section 4(d) rate filing per 154.204: 02/09/15 Negotiated Rates—United Energy Trading, LLC (HUB) to be effective 2/6/2015.

Filed Date: 2/9/15.

Accession Number: 20150209-5096.

Comments Due: 5 p.m. ET 2/23/15.

Docket Numbers: RP15-442-000.

Applicants: Iroquois Gas Transmission System, L.P.

Description: Section 4(d) rate filing per 154.204: 02/09/15 Negotiated Rates—Sequent Energy Management (HUB) 3075-89 to be effective 2/6/2015.

Filed Date: 2/9/15.

Accession Number: 20150209-5102.

Comments Due: 5 p.m. ET 2/23/15.

Docket Numbers: RP15-443-000.

Applicants: Iroquois Gas Transmission System, L.P.

Description: Section 4(d) rate filing per 154.204: 02/09/15 Negotiated Rates—Mercuria Energy Trading Gas LLC (HUB) 7540-89 to be effective 2/6/2015.

Filed Date: 2/9/15.

Accession Number: 20150209-5105.

Comments Due: 5 p.m. ET 2/23/15.

Docket Numbers: RP15-444-000.

Applicants: American Midstream (Midla), LLC.

Description: Section 4(d) rate filing per 154.204: Midla Imbalance Resolution to be effective 4/1/2015.

Filed Date: 2/9/15.

Accession Number: 20150209-5163.

Comments Due: 5 p.m. ET 2/23/15.

Docket Numbers: RP15-445-000.

Applicants: Iroquois Gas Transmission System, L.P.

Description: Section 4(d) rate filing per 154.204: 02/09/15 Negotiated Rates—NJR Energy Services Company to be effective 2/9/2015.

Filed Date: 2/9/15.

Accession Number: 20150209-5165.

Comments Due: 5 p.m. ET 2/23/15.

Docket Numbers: RP15-446-000.

Applicants: Rockies Express Pipeline LLC.

Description: Section 4(d) rate filing per 154.204: Neg Rate 2015-02-09 ConocoPhillips to be effective 2/9/2015.

Filed Date: 2/9/15.

Accession Number: 20150209-5210.

Comments Due: 5 p.m. ET 2/23/15.

Docket Numbers: RP15-447-000.

Applicants: Gulf South Pipeline Company, LP.

Description: Section 4(d) rate filing per 154.204: Amendment to Neg Rate Agmt (Sequent 34693-27) to be effective 2/10/2015.

Filed Date: 2/10/15.

Accession Number: 20150210-5040.

Comments Due: 5 p.m. ET 2/23/15.

Docket Numbers: RP15-448-000.

Applicants: Iroquois Gas Transmission System, L.P.

Description: Section 4(d) rate filing per 154.204: 02/10/15 Negotiated Rates—ConEdison Energy Inc. (HUB) 2275-89 to be effective 2/9/2015.

Filed Date: 2/10/15.

Accession Number: 20150210-5060.

Comments Due: 5 p.m. ET 2/23/15.

Docket Numbers: RP15-449-000.

Applicants: Iroquois Gas Transmission System, L.P.

Description: Section 4(d) rate filing per 154.204: 02/10/15 Negotiated Rates—Mercuria Energy Trading Gas LLC (HUB) 7540-89 to be effective 2/9/2015.

Filed Date: 2/10/15.

Accession Number: 20150210-5141.

Comments Due: 5 p.m. ET 2/23/15.

Docket Numbers: RP15-450-000.

Applicants: Enable Gas Transmission, LLC.

Description: Section 4(d) rate filing per 154.204: Negotiated Rate Filing—February 2015—LER 0222 Att A to be effective 2/10/2015.

Filed Date: 2/10/15.

Accession Number: 20150210-5152.

Comments Due: 5 p.m. ET 2/23/15.

Docket Numbers: RP15-451-000.

Applicants: Enable Mississippi River Transmission, L.

Description: Section 4(d) rate filing per 154.204: Negotiated Rate Filing to Amend LER 5680's Attachment A_2-10-15 to be effective 2/10/2015.

Filed Date: 2/10/15.

Accession Number: 20150210-5220.

Comments Due: 5 p.m. ET 2/23/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 11, 2015.
Nathaniel J. Davis, Sr.,
Deputy Secretary.

[FR Doc. 2015-03435 Filed 2-18-15; 8:45 am]

BILLING CODE 6717-01-P